DEPARTMENT OF DEFENSE

Office of the Secretary

[Transmittal No. 20-76]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-76 with attached Policy Justification.

Dated: November 25, 2020.
Kayyonne T. Marston,
Alternate OSD Federal Register Liaison Officer, Department of Defense.

BILLING CODE 5001-06-P

BILLING CODE 5001-06-C

Transmittal No. 20-76

Notice of Proposed Issuance of Letter of Offer Pursuant to Section 36(b)(1) of the Arms Export Control Act, as Amended

(i) Prospective Purchaser: The Government of the United Kingdom.

(ii) Total Estimated Value:

Major Defense Equipment * | $ 0.0 million
Other | $401.3 million
Total | $401.3 million

(iii) Description and Quantity or Quantities of Articles or Services under Consideration for Purchase:

Major Defense Equipment (MDE): None

Non-MDE: Follow-on C-17 aircraft Contractor Logistical Support (CLS) to include aircraft component spare and repair parts; accessories; publications and technical documentation; software and software support; U.S. Government and contractor engineering, technical and logistical support services; and other related elements of logistical and program support

(iv) Military Department: Air Force (UK-D-QDQ).

(v) Prior Related Cases, if any: UK-D-QDD.

(vi) Sales Commission, Fee, etc., Paid Offered, or Agreed to be Paid: None.

(vii) Sensitivity of Technology Contained in the Defense Article or Defense Services Proposed to be Sold: None.

(viii) Date Report Delivery to Congress: September 24, 2020.

* As defined in Section 47(6) of the Arms Exports Control Act.

POLICY JUSTIFICATION

United Kingdom—Follow-on Contractor Logistics Support (CLS) for C-17 Aircraft

The Government of the United Kingdom has requested to buy follow-on C-17 aircraft Contractor Logistical Support (CLS) to include aircraft component spare and repair parts; accessories; publications and technical documentation; software and software support; U.S. Government and contractor engineering, technical and logistical support services; and other related elements of logistical and program support. The total estimated program cost is $401.3 million.

This proposed sale will support the foreign policy and national security objectives of the United States by improving the security of a key NATO Ally, which is an important force for political stability and economic progress in Europe.

This proposed sale will improve the United Kingdom's capability to meet current and future threats by ensuring the operational readiness of the Royal Air Force. Its C-17 aircraft fleet provides strategic airlift capabilities that directly support U.S. and coalition operations around the world. The United Kingdom will have no difficulty absorbing these services into its armed forces.

The proposed sale of this equipment and support will not alter the basic military balance in the region.

The prime contractor will be The Boeing Company of Chicago, IL. There are no known offset agreements proposed in connection with this potential sale.

Implementation of the proposed sale will not require the assignment of any additional U.S. Government or contractor representatives to the United Kingdom.

There will be no adverse impact on U.S. defense readiness as a result of this proposed sale.

[FR Doc. 2020-26542 Filed 12-1-20; 8:45 am]

BILLING CODE 5001-06-P